DEPARTMENT OF THE TREASURY

Internal Revenue Service

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Brian Morrissey—Deputy General Counsel—Chair

2. Sunita Lough—Deputy Commissioner for Services & Enforcement (IRS)

3. Krishna Vallabhaneni—Tax Legislative Counsel, Office of Tax Policy

Alternate: Eric Hylton, Commissioner, Small Business/Self Employed (IRS)

This publication is required by 5 U.S.C. 4314(c)(4).

Michael J. Desmond,
Chief Counsel, Internal Revenue Service.

[FR Doc. 2020-19613 Filed 9-3-20; 8:45 am]

BILLING CODE 4830-01-P